DEPARTMENT OF COMMERCE

National Oceanic and Atmospheric Administration

50 CFR Part 223

[Docket No. 221104-0235]

RTID 0648-XR071

Endangered and Threatened Wildlife and Plants; Listing the Queen Conch as Threatened Under the Endangered Species Act (ESA)

AGENCY: National Marine Fisheries Service (NMFS), National Oceanic and Atmospheric Administration (NOAA), Commerce.

ACTION: Proposed rule; reopening of comment period and announcement of public hearing.

SUMMARY: We, NMFS, will hold a public hearing related to our proposed rule published September 8, 2022, to list the queen conch (Aliger gigas) as a threatened species under the Endangered Species Act (ESA). We are also reopening the public comment period, which will now close on December 15, 2022.

DATES: The comment period for the proposed rule published on September 8, 2022 (87 FR 55200) is reopened.

Comments: The comment period is reopened from November 7, 2022, to December 15, 2022. Comments must be received by December 15, 2022. Comments received after this date may not be accepted.

Public hearing: The public hearing on the proposed rule will be held online on November 21, 2022, from 5:30 p.m. to 8 p.m. (Eastern Standard Time). Since the hearing will be held online, any member of the public can join by internet or phone regardless of location. Instructions for joining the hearing are provided under ADDRESSES below. Alternative languages for persons with limited English proficiency can be made available if requested by November 11, 2022.

ADDRESSES: The public hearing will be conducted as a virtual meeting. You may join the virtual public hearing using a web browser, a mobile app on a phone (app installation required), or by phone (for audio only), as specified on this website: https://www.fisheries.noaa.gov/species/queen-conch#protected.

You may submit comments on the proposed rule verbally at the public hearing or in writing by any of the following methods:

• Electronic Submissions: Submit all electronic comments via the Federal eRulemaking Portal. Go to www.regulations.gov and enter NOAA-NMFS-2019-0141 in the Search box. Click on the “Comment” icon, complete the required fields, and enter or attach your comments.

• Mail: NMFS, Southeast Regional Office, 263 13th Avenue South, St. Petersburg, FL 33701.

Instructions: Comments sent by any other method, to any other address or individual, or received after the end of the comment period, might not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Translation services: To request alternative languages for persons with limited English proficiency, contact Orian Tzadik at orian.tzadik@noaa.gov to request translation services.

FOR FURTHER INFORMATION CONTACT: Calusa Horn, NMFS, Southeast Regional Office at (727) 551-5782 or calusa.horn@noaa.gov or Orian Tzadik, NMFS, Southeast Region Office at (727) 824-5312 or orian.tzadik@noaa.gov.

SUPPLEMENTARY INFORMATION: On September 8, 2022 (87 FR 55200), NMFS published a proposed rule to list the queen conch (Aliger gigas) as a threatened species under the ESA. In that document, we also announced a 60-day public comment period and indicated that requests for public hearings must be submitted by October 24, 2022. On October 20, 2022, we received a request to hold a public hearing on the proposed rule. In response to that request, we will hold a public hearing as described under the “Public Hearing” section of this document. The proposed rule provided for a public comment period that ended on November 7, 2022. We are reopening and extending the public comment period to December 15, 2022, in order to provide the public with additional time to provide comment in a meaningful and constructive manner.

The proposed rule and other materials prepared in support of this action are available at https://www.fisheries.noaa.gov/species/queen-conch#protected. We are accepting public comments for the proposed rule through December 15, 2022. Public comments can be submitted as described under ADDRESSES.

Public Hearing

The public hearing will be conducted online as a virtual meeting, as specified in ADDRESSES above. More detailed instructions for joining the virtual meeting are provided on our web page https://www.fisheries.noaa.gov/species/queen-conch#protected. The hearing will begin with a brief presentation by NMFS that will give an overview of the proposed listing under the ESA. After the presentation, but before public comments, there will be a question and answer session during which members of the public may ask NMFS staff questions about the proposed rule. Following the question and answer session, members of the public will have the opportunity to provide oral comments on the record regarding the proposed rule. In the event there is a large attendance, the time allotted per individual for oral comments may be limited. Therefore, anyone wishing to make an oral comment at the public hearing for the record is also encouraged to submit a written comment during the relevant public comment period as described under ADDRESSES and DATES. All oral comments will be recorded, transcribed, and added to the public comment record for this proposed rule.

Authority: The authority for this action is the Endangered Species Act of 1973, as amended (16 U.S.C. 1531 et seq.).

Dated: November 4, 2022.
Samuel D. Rauch, III,
Deputy Assistant Administrator for Regulatory Programs, National Marine Fisheries Service.

[FR Doc. 2022-24512 Filed 11-7-22; 4:15 pm]

BILLING CODE 3510-22-P